DEPARTMENT OF COMMERCE

International Trade Administration

[C-122-862]

Certain Uncoated Groundwood Paper From Canada: Initiation of Countervailing Duty Investigation

AGENCY: Enforcement and Compliance, International Trade Administration, Department of Commerce.

DATES: Applicable September 1, 2017.

FOR FURTHER INFORMATION CONTACT: David Crespo at (202) 482-3693, or Whitley Herndon at (202) 482-6274, Office II, AD/CVD Operations, Enforcement and Compliance, International Trade Administration, U.S. Department of Commerce, 1401 Constitution Avenue NW., Washington, DC 20230.

SUPPLEMENTARY INFORMATION:

The Petition

On August 9, 2017, the U.S. Department of Commerce (the Department) received a countervailing duty (CVD) Petition concerning imports of certain uncoated groundwood paper (UGW paper) from Canada, filed in proper form on behalf of North Pacific Paper Company (NORPAC, or the petitioner).¹ The CVD Petition was accompanied by an antidumping duty (AD) Petition concerning imports of UGW paper from Canada. The petitioner is a domestic producer of UGW paper.²

¹ See Letter from the petitioner re: “Petitions for the Imposition of Antidumping and Countervailing Duties on Uncoated Groundwood Paper from Canada,” dated August 9, 2017 (the Petition).

² Id., Volume I of the Petition, at 1.

On August 11 and 14, 2017, the Department requested supplemental information pertaining to certain areas of the Petition.³ The petitioner filed responses to these requests on August 15 and 16, 2017.⁴ On August 17, 2017, the Department contacted the petitioner regarding the proposed scope of the investigations.⁵ The petitioner filed revised scope language on August 21, 2017.⁶ As discussed below, on August 10, 2017, the Department issued polling questionnaires to all known U.S. producers of UGW paper. The Department received responses from all recipients of the polling questionnaires.

³ See Department Letter re: Petitions for the Imposition of Antidumping and Countervailing Duties on Imports of Certain Uncoated Groundwood Paper from Canada: Supplemental Questions, dated August 11, 2017 (General Issues Supplemental Questionnaire); see also Department Letter re: Petition for the Imposition of Countervailing Duties on Imports of Certain Uncoated Groundwood Paper from Canada, dated August 14, 2017.

⁴ See Letter from the petitioner re: Certain Uncoated Groundwood Paper from Canada/Responses to Supplemental Questions on the Injury Volume of the Petitions, dated August 15, 2017 (General Issues Supplemental Response); see also Letter from the petitioner re: Certain Uncoated Groundwood Paper from Canada/Petitioner's Responses to Supplemental Questions on the Countervailing Duty Volume of the Petition, dated August 16, 2017 (CVD Supplement).

⁵ See Memorandum, “Phone Call with Counsel to the Petitioner,” dated August 17, 2017 (Scope Phone Call).

⁶ See Letter from the petitioner re: Certain Uncoated Groundwood Paper from Canada/Further Revisions to The Scope Language, dated August 21, 2017 (Scope Revision Letter).

In accordance with section 702(b)(1) of the Tariff Act of 1930, as amended (the Act), the petitioner alleges that the Government of Canada (GOC) and the provincial governments of Alberta (GOA), British Colombia (GBS), Newfoundland and Labrador (GNL), Ontario (GOO), Quebec (GOQ), and New Brunswick (GNB) are providing countervailable subsidies, within the meaning of sections 701 and 771(5) of the Act, to imports of UGW paper from Canada and that such imports are materially injuring, or threatening material injury to, the domestic industry producing UGW paper in the United States. Also, consistent with section 702(b)(1) of the Act, for those alleged programs on which we are initiating a CVD investigation, the Petition is accompanied by information reasonably available to the petitioner supporting its allegations.

The Department finds that the petitioner filed this Petition on behalf of the domestic industry because the petitioner is an interested party as defined in section 771(9)(C) of the Act. The Department also finds that the petitioner demonstrated sufficient industry support with respect to the initiation of the CVD investigation that the petitioner is requesting.⁷

⁷ See the “Determination of Industry Support for the Petition” section, below.

Period of Investigation

Because the Petition was filed on August 9, 2017, the period of investigation (POI) is January 1, 2016, through December 31, 2016.

Scope of the Investigation

The product covered by this investigation is UGW paper from Canada. For a full description of the scope of this investigation, see the “Scope of the Investigation,” in the Appendix to this notice.

Comments on Scope of the Investigation

During our review of the Petition, the Department issued questions to, and received responses from, the petitioner pertaining to the proposed scope to ensure that the scope language in the Petition would be an accurate reflection of the products for which the domestic industry is seeking relief.⁸

⁸ See General Issues Supplemental Questionnaire; see also General Issues Supplemental Response, and Scope Revision Letter.

As discussed in the preamble to the Department's regulations, we are setting aside a period for interested parties to raise issues regarding product coverage (scope).⁹ The Department will consider all comments received from interested parties and, if necessary, will consult with the interested parties prior to the issuance of the preliminary determination. If scope comments include factual information,¹⁰ all such factual information should be limited to public information. To facilitate preparation of its questionnaires, the Department requests all interested parties to submit such comments by 5:00 p.m. Eastern Time (ET) on Monday, September 18, 2017, which is 20 calendar days from the signature date of this notice. Any rebuttal comments, which may include factual information, must be filed by 5:00 p.m. ET on Thursday, September 28, 2017, which is 10 calendar days from the initial comments deadline.¹¹

⁹ See Antidumping Duties; Countervailing Duties; Final Rule, 62 FR 27296, 27323 (May 19, 1997).

¹⁰ See 19 CFR 351.102(b)(21) (defining “factual information”).

¹¹ See 19 CFR 351.303(b).

The Department requests that any factual information the parties consider relevant to the scope of the investigation be submitted during this time period. However, if a party subsequently finds that additional factual information pertaining to the scope of the investigation may be relevant, the party may contact the Department and request permission to submit the additional information. All such comments must be filed on the records of the concurrent AD and CVD investigations.

Filing Requirements

All submissions to the Department must be filed electronically using Enforcement and Compliance's Antidumping Duty and Countervailing Duty Centralized Electronic Service System (ACCESS).¹² An electronically filed document must be received successfully in its entirety by the time and date it is due. Documents exempted from the electronic submission requirements must be filed manually (i.e., in paper form) with Enforcement and Compliance's APO/Dockets Unit, Room 18022, U.S. Department of Commerce, 1401 Constitution Avenue NW., Washington, DC 20230, and stamped with the date and time of receipt by the applicable deadlines.

¹² See Antidumping and Countervailing Duty Proceedings: Electronic Filing Procedures; Administrative Protective Order Procedures, 76 FR 39263 (July 6, 2011), see also Enforcement and Compliance: Change of Electronic Filing System Name, 79 FR 69046 (November 20, 2014) for details of the Department's electronic filing requirements, which went into effect on August 5, 2011. Information on help using ACCESS can be found at https://access.trade.gov/help.aspx, and a handbook can be found at https://access.trade.gov/help/Handbook%20on%20Electronic%20Filling%20Procedures.pdf.

Consultations

Pursuant to sections 702(b)(4)(A)(i) and (ii) of the Act, the Department notified representatives of the GOC of the receipt of the Petition, and provided them the opportunity for consultations with respect to the CVD Petition.¹³ Consultations with the GOC were held at the Department of Commerce on August 23, 2017.¹⁴

¹³ See Letter to the Embassy of Canada re: Uncoated Groundwood Paper from Canada: Invitation for Consultations to Discuss the Countervailing Duty Petition, dated August 10, 2017.

¹⁴ See Memorandum, “Countervailing Duty Petition on Certain Uncoated Groundwood Paper from Canada: GOC Consultations,” dated August 24, 2017.

Determination of Industry Support for the Petition

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,¹⁵ they do so for different purposes and pursuant to a separate and distinct authority. In addition, the Department's determination is subject to limitations of time and information. Although this may result in different definitions of the like product, such differences do not render the decision of either agency contrary to law.¹⁶

¹⁵ See section 771(10) of the Act.

¹⁶ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petition).

With regard to the domestic like product, the petitioner does not offer a definition of the domestic like product distinct from the scope of the investigation. Based on our analysis of the information submitted on the record, we have determined that UGW paper, as defined in the scope, constitutes a single domestic like product and we have analyzed industry support in terms of that domestic like product.¹⁷

¹⁷ For a discussion of the domestic like product analysis as applied to this case, see Countervailing Duty Investigation Initiation Checklist: Certain Uncoated Groundwood Paper from Canada (CVD Initiation Checklist), at Attachment II, Analysis of Industry Support for the Petitions Covering Certain Uncoated Groundwood Paper from Canada (Attachment II). This checklist is dated concurrently with this notice and on file electronically via ACCESS. Access to documents filed via ACCESS is also available in the Central Records Unit (CRU), Room B8024 of the main Department of Commerce building.

Based on information provided in the Petition, the share of total estimated U.S. production of the domestic like product in calendar year 2016 represented by the petitioner did not account for more than 50 percent of the total production of the domestic like product. Therefore, in accordance with section 702(c)(4)(D) of the Act, we polled the industry.¹⁸

¹⁸ Id.

On August 10, 2017, we issued polling questionnaires to all known producers of UGW paper, identified in the Petition.¹⁹ We requested that each company complete the polling questionnaire and certify its response by the due date specified in the cover letter to the questionnaire.²⁰ On August 23, 2017, in consultations with the Department held with respect to the CVD Petition, the GOC provided comments on industry support.²¹

¹⁹ See Volume I of the Petition, at Exhibit I-8; see also Memorandum, “Certain Uncoated Groundwood Paper from Canada: Polling Questionnaire,” dated August 14, 2017.

²⁰ For a detailed discussion of the responses received, see CVD Initiation Checklist, at Attachment II. The polling questionnaire and questionnaire responses are on file electronically via ACCESS and can also be accessed through the CRU.

²¹ See Memorandum, “Countervailing Duty Petition on Certain Uncoated Groundwood Paper from Canada: GOC Consultations,” dated August 24, 2017; and letter from the GOC re: “Uncoated Groundwood Paper from Canada: Submission of Consultations Paper,” dated August 25, 2017. For a discussion of the GOC's comments, see the AD Initiation Checklist, at Attachment II.

Section 702(c)(4)(B) of the Act states that (i) the Department “shall disregard the position of domestic producers who oppose the petition if such producers are related to foreign producers, as defined in section 771(4)(B)(ii), unless such domestic producers demonstrate that their interests as domestic producers would be adversely affected by the imposition of an antidumping duty order;” and (ii) the Department “may disregard the position of domestic producers of a domestic like product who are importers of the subject merchandise.” In addition, 19 CFR 351.203(e)(4) states that the position of a domestic producer that opposes the petition (i) will be disregarded if such producer is related to a foreign producer or to a foreign exporter under section 771(4)(B)(ii) of the Act, unless such domestic producer demonstrates to the Secretary's satisfaction that its interests as a domestic producer would be adversely affected by the imposition of an antidumping order; and (ii) may be disregarded if the producer is an importer of the subject merchandise or is related to such an importer under section 771(4)(B)(ii) of the Act.

We received objection to the Petition from those that produce domestic like product and are related to a foreign producer of subject merchandise and/or who imported subject merchandise from Canada. We have analyzed the information provided in the polling questionnaire responses and information provided in other submissions to the Department. Based on our analysis, we disregarded the opposition pursuant to section 702(c)(4)(B) of the Act. When the position in opposition to the petition is disregarded, the industry support requirements of section 702(c)(4)(A) of the Act are satisfied.²²

²² See CVD Initiation Checklist, at Attachment II.

The data collected demonstrate that the domestic producers of UGW paper which support the Petition account for at least 25 percent of the total production of the domestic like product and, once the opposition is disregarded, account for more than 50 percent of the production of the domestic like product produced by that portion of the industry expressing support for, or opposition to, the Petition.²³ Therefore, the Department determines that the petitioner filed this Petition on behalf of the domestic industry in accordance with section 702(b)(1) of the Act because it is an interested party as defined in section 771(9)(C) of the Act and it has demonstrated sufficient industry support with respect to the CVD investigation that it is requesting the Department initiate.²⁴

²³ Id.

²⁴ Id.

Injury Test

Because Canada is a “Subsidies Agreement Country” within the meaning of section 701(b) of the Act, section 701(a)(2) of the Act applies to this investigation. Accordingly, the ITC must determine whether imports of the subject merchandise from Canada materially injure, or threaten material injury to, a U.S. industry.

Allegations and Evidence of Material Injury and Causation

The petitioner alleges that imports of the subject merchandise are benefitting from countervailable subsidies and that such imports are causing, or threaten to cause, material injury to the U.S. industry producing the domestic like product. In addition, the petitioner alleges that subject imports exceed the negligibility threshold provided for under section 771(24)(A) of the Act.²⁵

²⁵ See Volume I of the Petition, at 19 and Exhibit I-12.

The petitioner contends that the industry's injured condition is illustrated by a significant volume of subject imports and significant increase in the volume of subject imports relative to U.S. consumption; reduced market share; underselling and price suppression or depression; lost sales and revenues; adverse effects on production, capacity utilization, U.S. shipments, and employment; declines in financial performance; and capacity closures and conversions.²⁶ We have assessed the allegations and supporting evidence regarding material injury, threat of material injury, and causation, and we have determined that these allegations are properly supported by adequate evidence and meet the statutory requirements for initiation.²⁷

²⁶ See Volume I of the Petition, at 17-28, Exhibit I-3, Exhibit I-6, and Exhibits I-11 through I-17.

²⁷ See CVD Initiation Checklist, at Attachment III, Analysis of Allegations and Evidence of Material Injury and Causation for the Antidumping and Countervailing Duty Petitions Covering Certain Uncoated Groundwood Paper from Canada.

Initiation of CVD Investigation

Based on the examination of the CVD Petition, we find that the Petition meets the requirements of section 702 of the Act. Therefore we are initiating a CVD investigation to determine whether imports of UGW paper from Canada benefit from countervailable subsidies conferred by the government of Canada. In accordance with section 703(b)(1) of the Act and 19 CFR 351.205(b)(1), unless postponed, we will make our preliminary determination no later than 65 days after the date of this initiation.

Under the Trade Preferences Extension Act of 2015, numerous amendments to the AD and CVD laws were made.²⁸ The 2015 law does not specify dates of application for those amendments. On August 6, 2015, the Department published an interpretative rule, in which it announced the applicability dates for each amendment to the Act, except for amendments contained in section 771(7) of the Act, which relate to determinations of material injury by the ITC.²⁹ The amendments to sections 776 and 782 of the Act are applicable to all determinations made on or after August 6, 2015, and, therefore, apply to this CVD investigation.³⁰

²⁸ See Trade Preferences Extension Act of 2015, Public Law 114-27, 129 Stat. 362 (2015).

²⁹ See Dates of Application of Amendments to the Antidumping and Countervailing Duty Laws Made by the Trade Preferences Extension Act of 2015, 80 FR 46793 (August 6, 2015) (Applicability Notice). The 2015 amendments may be found at https://www.congress.gov/bill/114th-congress/house-bill/1295/text/pl.

³⁰ See Applicability Notice, 80 FR at 46794-95.

Subsidy Allegations

Based on our review of the Petition, we find that there is sufficient information to initiate a CVD investigation on 63 of the 65 alleged programs. For a full discussion of the basis for our decision to initiate, or not initiate, on each program, see the CVD Initiation Checklist. A public version of the initiation checklist for this investigation is available on ACCESS.

In accordance with section 703(b)(1) of the Act and 19 CFR 351.205(b)(1), unless postponed, we will make our preliminary determination no later than 65 days after the date of this initiation.

Respondent Selection

The petitioner named seven companies as producers/exporters of UGW paper in Canada.³¹ Following standard practice in CVD investigations, in the event the Department determines that the number of companies is large, the Department intends to review U.S. Customs and Border Protection (CBP) data for U.S. imports of UGW paper during the POI under the appropriate Harmonized Tariff Schedule of the United States subheadings, and if it determines that it cannot individually examine each company based upon the Department's resources, then the Department will select respondents based on those data. We intend to release CBP data under Administrative Protective Order (APO) to all parties with access to information protected by APO within five business days of the announcement of the initiation of this investigation. Interested parties must submit applications for disclosure under APO in accordance with 19 CFR 351.305(b). Instructions for filing such applications may be found on the Department's Web site at http://enforcement.trade.gov/apo.

³¹ See Volume I of the Petition at Exhibit I-9.

Interested parties may submit comments regarding the CBP data and respondent selection by 5:00 p.m. ET three calendar days after publication. The Department will not accept rebuttal comments regarding the CBP data or respondent selection.

Comments must be filed electronically using ACCESS. An electronically filed document must be received successfully, in its entirety, by ACCESS no later than 5:00 p.m. ET on the date noted above. If respondent selection is necessary, within 20 days of publication of this notice, we intend to make our decision regarding respondent selection based upon comments received from interested parties and our analysis of the record information.

Distribution of Copies of the Petition

In accordance with section 702(b)(4)(A)(i) of the Act and 19 CFR 351.202(f), copies of the public version of the Petition have been provided to the GOC via ACCESS. To the extent practicable, we will attempt to provide a copy of the public version of the Petition to each exporter named in the Petition, as provided under 19 CFR 351.203(c)(2).

ITC Notification

We will notify the ITC of our initiation, as required by section 702(d) of the Act.

Preliminary Determination by the ITC

The ITC will preliminarily determine, within 45 days after the date on which the Petition was filed, whether there is a reasonable indication that imports of UGW paper from Canada are materially injuring, or threatening material injury to, a U.S. industry. A negative ITC determination will result in the investigation being terminated.³² Otherwise, this investigation will proceed according to statutory and regulatory time limits.

³² See section 733(a) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). 19 CFR 351.301(b) requires any party, when submitting factual information, to specify under which subsection of 19 CFR 351.102(b)(21) the information is being submitted ³³ and, if the information is submitted to rebut, clarify, or correct factual information already on the record, to provide an explanation identifying the information already on the record that the factual information seeks to rebut, clarify, or correct.³⁴ Time limits for the submission of factual information are addressed in 19 CFR 351.301, which provides specific time limits based on the type of factual information being submitted. Interested parties should review the regulations prior to submitting factual information in this investigation.

³³ See 19 CFR 351.301(b).

³⁴ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301 expires. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in this investigation.

Certification Requirements

Any party submitting factual information in an AD or CVD proceeding must certify to the accuracy and completeness of that information.³⁵ Parties are hereby reminded that revised certification requirements are in effect for company/government officials, as well as their representatives. Investigations initiated on the basis of petitions filed on or after August 16, 2013, and other segments of any AD or CVD proceedings initiated on or after August 16, 2013, should use the formats for the revised certifications provided at the end of the Final Rule.³⁶ The Department intends to reject factual submissions if the submitting party does not comply with the applicable revised certification requirements.

³⁵ See section 782(b) of the Act.

³⁶ See Certification of Factual Information to Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in this investigation should ensure that they meet the requirements of these procedures (e.g., the filing of letters of appearance as discussed at 19 CFR 351.103(d)).

This notice is issued and published pursuant to sections 702(c)(2) and 777(i) of the Act and 19 CFR 351.203(c).

Dated: August 29, 2017.
Gary Taverman,
Deputy Assistant Secretary for Antidumping and Countervailing Duty Operations, performing the non-exclusive functions and duties of the Assistant Secretary for Enforcement and Compliance.

Appendix

Scope of the Investigation

The merchandise covered by this investigation includes certain paper that has not been coated on either side and with 50 percent or more of the cellulose fiber content consisting of groundwood pulp, including groundwood pulp made from recycled paper, weighing not more than 90 grams per square meter. Groundwood pulp includes all forms of pulp produced from a mechanical pulping process, such as thermo-mechanical process (TMP), chemi-thermo mechanical process (CTMP), bleached chemi-thermo mechanical process (BCTMP) or any other mechanical pulping process. The scope includes paper shipped in any form, including but not limited to both rolls and sheets.

Certain uncoated groundwood paper includes but is not limited to standard newsprint, high bright newsprint, book publishing, directory, and printing and writing papers. The scope includes paper that is white, off-white, cream, or colored.

Specifically excluded from the scope are imports of certain uncoated groundwood paper printed with final content of printed text or graphic. Also excluded are papers that otherwise meet this definition, but which have undergone a supercalendering process.³⁷

³⁷ Supercalendering imparts a glossy finish produced by the movement of the paper web through a supercalender which is a stack of alternating rollers of metal and cotton (or other softer material). The supercalender runs at high speed and applies pressure, heat, and friction which glazes the surface of the paper, imparting gloss to the surface and increasing the paper's smoothness and density.

Certain uncoated groundwood paper is classifiable in the Harmonized Tariff Schedule of the United States (HTSUS) in several subheadings, including 4801.00.0120, 4801.00.0140, 4802.61.1000, 4802.61.2000, 4802.61.3110, 4802.61.3191, 4802.61.6040, 4802.62.1000, 4802.62.2000, 4802.62.3000, 4802.62.6140, 4802.69.1000, 4802.69.2000, and 4802.69.3000. Subject merchandise may also be imported under several additional subheadings including 4805.91.5000, 4805.91.7000, and 4805.91.9000. Although the HTSUS subheadings are provided for convenience and customs purposes, the written description of the merchandise is dispositive.

[FR Doc. 2017-18727 Filed 8-31-17; 8:45 am]

BILLING CODE 3510-DS-P